DEPARTMENT OF HOMELAND SECURITY

Federal Emergency Management Agency

44 CFR Part 67

[Docket ID FEMA-2010-0003; Internal Agency Docket No. FEMA-B-1098]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 7, 2010.

ADDRESSES: The corresponding preliminary Flood Insurance Rate Map (FIRM) for the proposed BFEs for each community is available for inspection at the community's map repository. The respective addresses are listed in the table below.

You may submit comments, identified by Docket No. FEMA-B-1098, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Woodbury County, Iowa, and Incorporated Areas
Little Sioux River | Approximately 1,850 feet downstream of the City of Anthon corporate limits | None | +1,100 | Unincorpor­ated Areas of Woodbury County.
| Approximately 1,900 feet upstream of the City of Anthon corporate limits | None | +1,105
Missouri River | Approximately 900 feet upstream of the Monona County boundary | +1,066 | +1,064 | City of Sioux City, Unincorpor­ated Areas of Woodbury County, Winnebago Indian Tribe.
| Approximately 500 feet downstream of the Dakota County boundary | None | +1,090
Perry Creek | Approximately 150 feet upstream of 6th Street | +1,111 | +1,108 | City of Sioux City.
| Approximately 225 feet upstream of Country Club Boulevard | +1,145 | +1,144
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Sioux City
Maps are available for inspection at 405 6th Street, Sioux City, IA 51101.
Unincorpor­ated Areas of Woodbury County
Maps are available for inspection at 620 Douglas Street, 6th Floor, Sioux City, IA 51101.
Winnebago Indian Tribe
Maps are available for inspection at 100 Bluff Street, Winnebago, NE 68071.
Wyandotte County, Kansas, and Incorporated Areas
Marshall Creek | At the confluence with Wyandotte County Lake | None | +833 | City of Kansas City.
| Approximately 80 feet downstream of North 99th Street | None | +928
Marshall Creek Tributary | At the confluence with Marshall Creek | None | +842 | City of Kansas City.
| Approximately 2,000 feet upstream of Parallel Avenue | None | +916
Missouri River | Approximately 3,500 feet downstream of the Fairfax Bridge | +758 | +756 | City of Kansas City.
| Just upstream of I-635 | +759 | +758
| At the confluence with Connor Creek | +765 | +764
Spring Creek | Approximately 700 feet upstream of 2nd Street | +785 | +787 | City of Bonner Springs.
| Just upstream of Lakewood Drive | +856 | +857
Wolf Creek | Approximately 1,500 feet downstream of Woodend Road | +778 | +777 | City of Bonner Springs.
| Approximately 3,100 feet upstream of Kump Avenue | +792 | +794
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bonner Springs
Maps are available for inspection at 205 East 2nd Street, Bonner Springs, KS 66012.
City of Kansas City
Maps are available for inspection at 701 North 7th Street, City Hall, Kansas City, KS 66101.
Grayson County, Kentucky, and Incorporated Areas
Ashcraft Branch (Backwater effects from Rough River Lake) | From the confluence with Rough River Lake to approximately 1,525 feet upstream of the confluence with Rough River Lake | None | +524 | Unincorpor­ated Areas of Grayson County.
Big Run Branch (Backwater effects from Rough River Lake) | From the confluence with Rough River Lake to approximately 1,805 feet downstream of the confluence with Big Run Branch Tributary 7 | None | +524 | Unincorpor­ated Areas of Grayson County.
Browns Creek (Backwater effects from Rough River) | From the confluence with the Rough River to approximately 0.4 mile downstream of Olaton Road | None | +427 | Unincorpor­ated Areas of Grayson County.
Buck Creek (Backwater effects from Caney Creek) | From the confluence with Caney Creek to approximately 675 feet upstream of the confluence with Buck Creek | None | +467 | Unincorpor­ated Areas of Grayson County.
Caney Fork | At the confluence with North Fork | None | +427 | City of Caneyville.
| Approximately 875 downstream of North Main Street | None | +471 | Unincorpor­ated Areas of Grayson County.
Cave Creek (Backwater effects from Rough River Lake) | From the confluence with Rough River Lake to approximately 0.6 mile upstream of the confluence with Cave Creek | None | +524 | Unincorpor­ated Areas of Grayson County.
Conoloway Creek (Backwater effects from Nolin Lake) | From the confluence with Nolin Lake to approximately 1,510 feet upstream of Huffman Road | None | +560 | Unincorpor­ated Areas of Grayson County.
Diamond Branch (Backwater effects from Rough River) | From the confluence with the Rough River to approximately 0.8 mile upstream of the confluence with the Rough River | None | +439 | Unincorpor­ated Areas of Grayson County.
Grindstone Fork (Backwater effects from Nolin Lake) | From the confluence with Nolin Lake to approximately 1.6 mile upstream of the confluence with Nolin Lake | None | +560 | Unincorpor­ated Areas of Grayson County.
Hunting Fork (Backwater effects from Nolin Lake) | From the confluence with Nolin Lake to approximately 0.5 mile upstream of Iberia Road | None | +560 | Unincorpor­ated Areas of Grayson County.
Jarrett Fork (Backwater effects from Caney Creek) | From the confluence with Caney Creek to approximately 895 feet downstream of Walnut Grove Road | None | +467 | Unincorpor­ated Areas of Grayson County.
Laurel Branch (Backwater effects from Rough River Lake) | From the confluence with the Rough River Lake to approximately 370 feet upstream of Clifty Church Drive | None | +524 | Unincorpor­ated Areas of Grayson County.
Little Clifty Creek (Backwater effects from Rough River Lake) | From the confluence with the Rough River Lake to approximately 1,220 feet upstream of the confluence with Little Clifty Creek Tributary 12 | None | +524 | Unincorpor­ated Areas of Grayson County.
Little Short Creek (Backwater effects from Rough River) | From the confluence with the Rough River to approximately 200 feet upstream of Lone Hill Road | None | +438 | Unincorpor­ated Areas of Grayson County.
Long Spring Branch (Backwater effects from Rough River) | From the confluence with the Rough River to approximately 0.6 mile upstream of the confluence with the Rough River | None | +430 | Unincorpor­ated Areas of Grayson County.
Mistaken Creek (Backwater effects from Rough River) | From the confluence with the Rough River to approximately 5.0 miles upstream of Olaton Road | None | +433 | Unincorpor­ated Areas of Grayson County.
Nolin Lake | Entire shoreline | None | +560 | Unincorpor­ated Areas of Grayson County.
Nolin River (Backwater effects from Nolin Lake) | From the confluence with Nolin Lake to approximately 0.7 mile upstream of the confluence with Nolin Lake | None | +560 | Unincorpor­ated Areas of Grayson County.
North Fork | Approximately 1,000 feet upstream of the confluence with South Fork | None | +472 | City of Caneyville, Unincorpor­ated Areas of Grayson County.
| Approximately at the confluence with Caney Creek | None | +472
Person Branch (Backwater effects from Nolin Lake) | From the confluence with Nolin Lake to approximately 1.2 mile upstream of the confluence with Nolin Lake | None | +560 | Unincorpor­ated Areas of Grayson County.
Peter Cave Creek (Backwater effects from Rough River Lake) | From the confluence with Rough River Lake to approximately 0.5 mile upstream of the confluence with Rough River Lake | None | +524 | Unincorpor­ated Areas of Grayson County.
Pleasant Run (Backwater effects from Rough River) | From the confluence with the Rough River to approximately 1.6 mile upstream of the confluence with the Rough River | None | +445 | Unincorpor­ated Areas of Grayson County.
Rock Creek (Backwater effects from Nolin Lake) | From the confluence with Nolin Lake to approximately 500 feet upstream of Horntown Road | None | +560 | Unincorpor­ated Areas of Grayson County.
Rock Creek Tributary 14 (Backwater effects from Nolin Lake) | From the confluence with Rock Creek to approximately 0.6 mile upstream of the confluence with Rock Creek | None | +560 | Unincorpor­ated Areas of Grayson County.
Rock Creek Tributary 15 (Backwater effects from Nolin Lake) | From the confluence with Nolin Lake to just downstream of Left Fork of Rock Creek Road | None | +560 | Unincorpor­ated Areas of Grayson County.
Rough River | At the confluence with Browns Creek | None | +427 | Unincorpor­ated Areas of Grayson County.
| Just downstream of Green Farms Road | None | +446
Rough River Lake | Entire shoreline | None | +524 | Unincorpor­ated Areas of Grayson County.
Short Creek (Backwater effects from Spring Fork) | From the confluence with Spring Fork to approximately 0.7 mile upstream of the confluence with Spring Fork | None | +438 | Unincorpor­ated Areas of Grayson County.
South Barton Run (Backwater effects from Nolin Lake) | From the confluence with Nolin Lake to approximately 1.0 mile upstream of the confluence with Nolin Lake | None | +560 | Unincorpor­ated Areas of Grayson County.
South Fork (Backwater effects from North Fork) | From the confluence with North Fork to approximately 925 feet upstream of the confluence with North Fork | None | +472 | Unincorpor­ated Areas of Grayson County, City of Caneyville.
Spring Fork (Backwater effects from Rough River) | From the confluence with the Rough River to just upstream of Owensboro Road | None | +438 | Unincorpor­ated Areas of Grayson County.
Stones Hollow (Backwater effects from Rough River Lake) | From the confluence with Rough River Lake to approximately 0.4 mile upstream of the confluence with Rough River Lake | None | +524 | Unincorpor­ated Areas of Grayson County.
Walter Creek (Backwater effects from Rough River Lake) | From the confluence with the Rough River Lake to approximately 1,010 feet downstream of Duff Road | None | +524 | Unincorpor­ated Areas of Grayson County.
West Cane Run (Backwater effects from Caney Creek) | From the confluence with Caney Creek to approximately 1,900 feet upstream of the confluence with Caney Creek | None | +466 | Unincorpor­ated Areas of Grayson County.
Wildcat Hollow (Backwater effects from Rough River Lake) | From the confluence with Rough River Lake to approximately 1,680 feet upstream of the confluence with Rough River Lake | None | +524 | Unincorpor­ated Areas of Grayson County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Caneyville
Maps are available for inspection at City Hall, 104 North Main Street, Caneyville, KY 42721.
Unincorpor­ated Areas of Grayson County
Maps are available for inspection at the Grayson County Judicial Building, Leitchfield, KY 42754.
Baltimore County, Maryland, and Incorporated Areas
Gwynns Falls | Just downstream of the confluence with Red Run | +440 | +441 | Unincorpor­ated Areas of Baltimore County.
| Approximately 1,300 feet downstream of Painters Mill Road | +444 | +446
Roland Run | Approximately 1,166 feet upstream of Joppa Road | +260 | +261 | Unincorpor­ated Areas of Baltimore County.
| Approximately 810 feet downstream of Essex Farm Road | +261 | +262
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorpor­ated Areas of Baltimore County
Maps are available for inspection at the Baltimore County Office Building, 111 West Chesapeake Avenue, Suite 307, Towson, MD 21204.
Marshall County, Mississippi, and Incorporated Areas
Byhalia Creek | Approximately 200 feet downstream of the U.S. Route 178 Bridge | None | +332 | Town of Byhalia.
| Approximately 900 feet upstream of the Railroad Bridge | None | +334
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Byhalia
Maps are available for inspection at 161 Highway 309 South, Byhalia, MS 38611.
Simpson County, Mississippi, and Incorporated Areas
Pearl River | Approximately 1.2 mile downstream of the U.S. Route 28 Bridge | None | +229 | Unincorpor­ated Areas of Simpson County.
| Approximately 1.0 mile upstream of the U.S. Route 28 Bridge | None | +233
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorpor­ated Areas of Simpson County
Maps are available for inspection at 100 Court Street, Room 2, Mendenhall, MS 39114.
Warren County, New Jersey (All Jurisdictions)
Buckhorn Creek | At the confluence with the Delaware River | +224 | +226 | Township of Harmony.
| Approximately 850 feet upstream of the Hutchinson Station Road Bridge | +225 | +226
Delaware River | Approximately 150 feet upstream of the Riegelsville Bridge | +160 | +161 | Town of Belvidere, Town of Phillipsburg, Township of Hardwick, Township of Harmony, Township of Knowlton, Township of Lopatcong, Township of Pohatcong, Township of White.
| At the Sussex County boundary | None | +352
Lopatcong Creek | At the confluence with the Delaware River | +188 | +186 | Town of Phillipsburg.
| Approximately 450 feet upstream of Waste Water Treatment Facility Driveway | +188 | +186
Pequest River | At the confluence with the Delaware River | +254 | +256 | Town of Belvidere.
| Approximately 100 feet downstream of the Orchard Street Bridge | +280 | +284
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Belvidere
Maps are available for inspection at 691 Water Street, Belvidere Town Municipal Building, Belvidere, NJ 07823.
Town of Phillipsburg
Maps are available for inspection at 675 Corliss Avenue, Phillipsburg Town Municipal Building, Phillipsburg, NJ 08865.
Township of Hardwick
Maps are available for inspection at 40 Spring Valley Road, Hardwick Township Municipal Building, Hardwick, NJ 07825.
Township of Harmony
Maps are available for inspection at 3003 Belvidere Road, Harmony Township Municipal Building, Phillipsburg, NJ 08865.
Township of Knowlton
Maps are available for inspection at 628 Route 94, Knowlton Township Municipal Building, Columbia, NJ 07832.
Township of Lopatcong
Maps are available for inspection at 232 South 3rd Street, Lopatcong Township Municipal Building, Phillipsburg, NJ 08865.
Township of Pohatcong
Maps are available for inspection at 50 Municipal Drive, Pohatcong Township Municipal Building, Phillipsburg, NJ 08865.
Township of White
Maps are available for inspection at 555 County Road 519, White Township Municipal Building, Belvidere, NJ 07823.
Otsego County, New York (All Jurisdictions)
Charlotte Creek | At the confluence with the Susquehanna River | +1,101 | +1,102 | Town of Oneonta.
| Approximately 1,000 feet upstream of the confluence with the Susquehanna River | +1,101 | +1,102
Glenwood Creek | At the confluence with the Susquehanna River | +1,082 | +1,085 | City of Oneonta, Town of Oneonta.
| Approximately 40 feet downstream of I-88 | +1,084 | +1,085
Mill Race | At the confluence with the Susquehanna River | +1,079 | +1,078 | City of Oneonta.
| Approximately 450 feet upstream of River Street | +1,079 | +1,078
Otsdawa Creek | At the confluence with the Susquehanna River | +1,055 | +1,056 | Town of Otego, Village of Otego.
| Approximately 870 feet upstream of Main Street | +1,055 | +1,056
Otsego Lake | Entire shoreline | None | +1,193 | Town of Middlefield, Town of Otsego, Town of Springfield.
Susquehanna River | Approximately 1,325 feet downstream of State Highway 8 | +985 | +987 | Town of Milford, City of Oneonta, Town of Oneonta, Town of Otego, Town of Unadilla, Village of Otego, Village of Unadilla.
| Approximately 3,840 feet upstream of State Highway 28 | None | +1,123
Unadilla River | At the confluence with the Susquehanna River | +985 | +987 | Town of Butternuts, Town of Morris, Town of Pittsfield, Town of Unadilla, Village of Unadilla.
| Approximately 1.7 mile upstream of State Highway 80 | None | +1,101
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Oneonta
Maps are available for inspection at 258 Main Street, Oneonta City Hall, Oneonta, NY 13820.
Town of Butternuts
Maps are available for inspection at 3 Vale Street, Butternuts Town Hall, Gilbertsville, NY 13776.
Town of Middlefield
Maps are available for inspection at 2209 County Highway 33, Middlefield Town Hall, Cooperstown, NY 13326.
Town of Milford
Maps are available for inspection at 2859 State Route 28, Milford Town Hall, Milford, NY 13834.
Town of Morris
Maps are available for inspection at 93 Main Street, Morris Town Hall, Morris, NY 13808.
Town of Oneonta
Maps are available for inspection at 3966 State Highway 12, Oneonta Town Hall, West Oneonta, NY 13861.
Town of Otego
Maps are available for inspection at 3526 State Highway 7, Otego Town Hall, Otego, NY 13825.
Town of Otsego
Maps are available for inspection at 811 County Highway 26, Otsego Town Hall, Fly Creek, NY 13337.
Town of Pittsfield
Maps are available for inspection at 366 State Highway 80, Pittsfield Town Hall, New Berlin, NY 13411.
Town of Springfield
Maps are available for inspection at 8104 State Highway 80, Springfield Town Hall, Springfield Center, NY 13468.
Town of Unadilla
Maps are available for inspection at 1648 State Highway 7, Unadilla Town Hall, Unadilla, NY 13849.
Village of Otego
Maps are available for inspection at 4 River Street, Otego Village Hall, Otego, NY 13825.
Village of Unadilla
Maps are available for inspection at 193 Main Street, Unadilla Village Hall, Unadilla, NY 13849.
Stark County, Ohio, and Incorporated Areas
Broad-Monter Creek | At the upstream side of Ravenna Avenue | None | +1,110 | Unincorpor­ated Areas of Stark County.
| Approximately 650 feet upstream of Ravenna Avenue | None | +1,110
| Approximately 320 feet downstream of Meese Road | None | +1,157
| At the downstream side of Meese Road | None | +1,161
Chatham Ditch | Approximately 900 feet upstream of 7th Street | None | +1,100 | City of North Canton.
| Approximately 950 feet downstream of Holl Road | None | +1,121
Clays Ditch | Approximately 1,300 feet upstream of Roanoke Street | None | +1,031 | Unincorpor­ated Areas of Stark County.
| Approximately 220 feet upstream of Knight Street | None | +1,039
East Branch Nimishillen Creek | Approximately 140 feet downstream of Beck Avenue | +1,082 | +1,081 | City of Louisville, Unincorpor­ated Areas of Stark County.
| At the downstream side of Nickel Plate Avenue | +1,110 | +1,109
East Branch Nimishillen Creek (Backwater effects) | Approximately 650 feet upstream of the confluence with East Branch Nimishillen Creek and East Branch Nimishillen Creek Diversion | +1,054 | +1,050 | City of Canton.
| Approximately 1,350 feet upstream of the confluence with East Branch Nimishillen Creek and East Branch Nimishillen Creek Diversion | +1,054 | +1,050
Mahoning River | Approximately 1,400 feet downstream of Union Avenue | None | +1,032 | City of Alliance, Unincorpor­ated Areas of Stark County.
| Approximately 0.86 mile upstream of Webb Avenue | None | +1,046
Mahoning River Overflow | At the confluence with the Mahoning River | None | +1,045 | City of Alliance, Unincorpor­ated Areas of Stark County.
| At the divergence from the Mahoning River | None | +1,046
McDowell Ditch | Approximately 140 feet upstream of Guilford Avenue | +1,046 | +1,045 | City of Canton, City of North Canton, Unincorpor­ated Areas of Stark County.
| At the confluence with Zimber Ditch | +1,061 | +1,062
McDowell Ditch Overflow 1 (formerly McDowell Ditch Diversion Channel) | At the downstream side of I-77 | +1,052 | +1,051 | Unincorpor­ated Areas of Stark County.
| At the upstream side of I-77 | +1,054 | +1,053
McDowell Ditch Overflow 2 | At the confluence with McDowell Ditch Overflow 1 | None | +1,054 | City of Canton, Unincorpor­ated Areas of Stark County.
| At the divergence from McDowell Ditch | None | +1,055
Metzger Ditch | Approximately 160 feet downstream of Cain Street (Summit County boundary) | None | +1,107 | Unincorpor­ated Areas of Stark County.
| Approximately 1.18 mile upstream of Lake Center Street | None | +1,124
Middle Tributary | At the confluence with North Chapel Creek | None | +1,108 | City of Louisville.
| At the downstream side of Atlantic Boulevard (U.S. Route 62) | None | +1,148
North Chapel Creek | At the upstream side of Frana Clara Street | +1,106 | +1,105 | City of Louisville, Unincorpor­ated Areas of Stark County.
| At the downstream side of Atlantic Boulevard (U.S. Route 62) | None | +1,144
Plum Creek | Approximately 0.82 mile downstream of Manchester Avenue (State Route 93) | +946 | +947 | City of Canal Fulton, Unincorpor­ated Areas of Stark County.
| At the downstream side of Akron Avenue | +1,014 | +1,012
Unnamed Tributary to East Branch Nimishillen Creek | At the confluence with East Branch Nimishillen Creek | None | +1,085 | City of Louisville, Unincorpor­ated Areas of Stark County.
| At the downstream side of Georgetown Street | None | +1,105
West Branch Nimishillen Creek | Approximately 190 feet downstream of I-77 | +1,044 | +1,043 | City of Canton, City of North Canton, Unincorpor­ated Areas of Stark County.
| Approximately 700 feet downstream of Hoover Avenue | None | +1,155
West Branch Nimishillen Creek Overflow | At the downstream side of Midway Street | None | +1,126 | Unincorpor­ated Areas of Stark County.
| Approximately 400 feet upstream of Midway Street | None | +1,130
West Branch Nimishillen Creek Tributary 1 | At the confluence with West Branch Nimishillen Creek | +1,092 | +1,090 | Unincorpor­ated Areas of Stark County.
| At the upstream side of State Street | None | +1,140
West Sippo Creek | At the downstream side of Deermont Avenue | None | +995 | City of Massillon, Unincorpor­ated Areas of Stark County.
| At the downstream side of Manchester Avenue (State Route 93) | None | +1,034
Zimber Ditch Tributary 1 | Approximately 0.45 mile upstream of Beech Hill Road (Summit County boundary) | None | +1,107 | Unincorpor­ated Areas of Stark County.
| Approximately 1,080 feet upstream of Cleveland Avenue | None | +1,164
Zimber Ditch Tributary 1A | At the confluence with Zimber Ditch Tributary 1 | None | +1,122 | Unincorpor­ated Areas of Stark County.
| Approximately 0.39 mile upstream of Burkey Road | None | +1,156
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Alliance
Maps are available for inspection at 504 East Main Street, Alliance, OH 44601.
City of Canal Fulton
Maps are available for inspection at 155 East Market Street, Canal Fulton, OH 44614.
City of Canton
Maps are available for inspection at 424 Market Avenue North, Canton, OH 44702.
City of Louisville
Maps are available for inspection at 215 South Mill Street, Louisville, OH 44641.
City of Massillon
Maps are available for inspection at 151 Lincolnway East, Massillon, OH 44646.
City of North Canton
Maps are available for inspection at 220 West Maple Street, North Canton, OH 44720.
Unincorpor­ated Areas of Stark County
Maps are available for inspection at 110 Central Plaza South, Canton, OH 44702.

(Catalog of Federal Domestic Assistance No. 97.022, “Flood Insurance.”)

Dated: May 14, 2010.
Sandra K. Knight,
Deputy Federal Insurance and Mitigation Administrator, Mitigation, Department of Homeland Security, Federal Emergency Management Agency.

[FR Doc. 2010-13859 Filed 6-8-10; 8:45 am]

BILLING CODE 9110-12-P